COMMITTEE FOR PURCHASE FROM PEOPLE WHO ARE BLIND OR SEVERELY DISABLED

Procurement List; Proposed Additions and Deletion

AGENCY: Committee for Purchase From People Who Are Blind or Severely Disabled.

ACTION: Proposed additions to and deletions from procurement list.

SUMMARY: The Committee is proposing to add to the Procurement List products and a service to be furnished by nonprofit agencies employing persons who are blind or have other severe disabilities, and to delete a service previously furnished by such agencies.

Comments Must be Received on or Before: January 9, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List. Comments on this certification are invited. Commenters should identify the statement(s) underlying the certification on which they are providing additional information.

End of Certification

The following products and service are proposed for addition to Procurement List for production by the nonprofit agencies listed:

Products

Product/NSN: Cap, Baseball, Navy, 8415-01-487-5148.

NPA: National Center for Employment of the Disabled, El Paso, Texas.

Contracting Activity: Defense Supply Center Philadelphia, Philadelphia, Pennsylvania.

Product/NSN: Eraser, Whiteboard, 7510-01-316-6213.

Product/NSN: Kit, Dry Erase Marker (12), 7520-01-365-6126.

Product/NSN: Kit, Dry Erase Marker (6), 7520-01-352-7321.

NPA: Dallas Lighthouse for the Blind, Inc., Dallas, Texas.

Contracting Activity: Office Supplies & Paper Products Acquisition Center, New York, NY.

Product/NSN: Vegetable Oil (Domestic) 10% of USDA Requirement, 8945-00-NSH-0002.

NPA: Advocacy and Resources Corporation, Cookeville, Tennessee.

Contracting Activity: USDA, Farm Service Agency, Washington, DC.

Service

Service Type/Location: Mailroom Operation, ServiceSource, Alexandria, VA (Prime Contractor) at the following location for the Nonprofit Agencies identified: Internal Revenue Service Mailroom, 4050 Alpha Road, Dallas, Texas.

NPA: Dallas Lighthouse for the Blind, Inc., Dallas, Texas.

Contracting Activity: U.S. Treasury, IRS Headquarters, Oxon Hill, Maryland.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Food Service Attendant, Mississippi Air National Guard, Building 129, Dining Facility, Jackson, Mississippi.

NPA: Goodwill Industries of Mississippi, Inc., Ridgeland, Mississippi.

Contracting Activity: Mississippi Air National Guard, Jackson, Mississippi.

Sheryl D. Kennerly,
Director, Information Management.

[FR Doc. 04-27155 Filed 12-9-04; 8:45 am]

BILLING CODE 6353-01-P